DEPARTMENT OF COMMERCE

National Oceanic and Atmospheric Administration

[RTID 0648-XC182]

Fisheries of the South Atlantic; South Atlantic Fishery Management Council; Public Meeting

AGENCY: National Marine Fisheries Service (NMFS), National Oceanic and Atmospheric Administration (NOAA), Commerce.

ACTION: Notice of a joint public meeting.

SUMMARY: The South Atlantic Fishery Management Council (Council) will hold a meeting involving advisory panel (AP) chairs, vice chairs, and other representatives to provide input on the draft Comprehensive Acceptable Biological Catch (ABC) Control Rule Amendment.

DATES: The meeting will be held via webinar on August 10, 2022, from 9 a.m. until 12 p.m., EDT.

ADDRESSES:

Meeting address: The meeting will be held via webinar. The webinar is open to members of the public. Registration is required. Webinar registration, an online public comment form, and briefing book materials will be available one week prior to the meeting at: https://safmc.net/advisory-council-meetings/.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The ABC Control Rule Amendment considers revisions to the ABC control rule for the Dolphin Wahoo, Golden Crab, and Snapper Grouper Fishery Management Plans. These revisions include changes to the structure of the control rule in how risk and uncertainty components are handled, allowance of phasing in ABC changes over multiple years, and allowance for unharvested portions of annual catch limits (ACL) to be carried over to increase ACL in the following year. The AP representatives will discuss each of these actions, providing comments and recommendations for the Council's consideration.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: July 18, 2022.
Rey Israel Marquez,
Acting Deputy Director, Office of Sustainable Fisheries, National Marine Fisheries Service.

[FR Doc. 2022-15641 Filed 7-21-22; 8:45 am]

BILLING CODE 3510-22-P